DEPARTMENT OF TRANSPORTATION

Federal Aviation Administration

14 CFR Part 39

[Docket No. FAA-2005-20587; Directorate Identifier 2005-CE-10-AD; Amendment 39-14021; AD 2005-05-53 R1]

RIN 2120-AA64

Airworthiness Directives; The Cessna Aircraft Company Models 172R, 172S, 182T, and T182T Airplanes

AGENCY: Federal Aviation Administration (FAA), DOT.

ACTION: Final rule; request for comments.

SUMMARY: The FAA is adopting a new airworthiness directive (AD) to revise emergency AD 2005-05-53 for The Cessna Aircraft Company (Cessna) Models 172R, 172S, 182T, and T182T airplanes. This AD contains the same information as emergency AD 2005-05-53 R1 and publishes the action in the Federal Register. It requires you to do a one-time detailed inspection of the flight control system, correct installations that do not conform to type design, and repair any damage. This AD is the result of flight control system problems found on airplanes within Cessna's control that could also exist on airplanes produced and delivered within a certain time period. We are issuing this AD to prevent loss of airplane control due to incorrect or inadequate rigging of critical flight systems.

DATES: This AD becomes effective on March 21, 2005, to all affected persons who did not receive emergency AD 2005-05-53 R1, issued March 5, 2005. Emergency AD 2005-05-53 R1 contained the requirements of this amendment and became effective immediately upon receipt. As of March 21, 2005, the Director of the Federal Register approved the incorporation by reference of certain publications listed in the regulations.

We must receive any comments on this AD by April 30, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

• To get the service information identified in this proposed AD, contact The Cessna Aircraft Company, Product Support P.O. Box 7706, Wichita, Kansas 67277; telephone: (316) 517-5800; facsimile: (316) 942-9006.

To view the comments to this AD, go to http://dms.dot.gov. The docket number is FAA-2005-20587; Directorate Identifier 2005-CE-10-AD.

FOR FURTHER INFORMATION CONTACT: Chris B. Morgan, Aerospace Engineer, FAA, Wichita ACO, 1801 Airport Road, Mid-Continent Airport, Wichita, Kansas 67209; telephone: (316) 946-4154; facsimile: (316) 946-4107; e-mail: chris.b.morgan@faa.gov.

SUPPLEMENTARY INFORMATION:

Discussion

What events caused this action? The FAA was notified that inadequate or incorrect flight controls rigging may exist on recently produced Cessna Models 172R, 172S, 182T, and T182T airplanes. The following issues were identified through Cessna's inspection of airplanes still at their production facility:

• Two airplanes with ailerons not engaging the upper stops and one with a flap push/pull rod missing the nut on the bolt.

• Elevator cables chafing fuel lines near the fuel selector, which caused damage to the fuel lines.

• Elevator trim cables routed outside the cotter pins in the horizontal stabilizer.

• Elevator trim cables crossed twice (trim functioned correctly in flight).

• Control cables rubbing structures such as bulkheads and center consoles.

• Aileron bell crank adjustment screw interference with stringer.

• Barrels on control cables not safety pinned or incorrectly pinned.

• Control cables routed outside of pulleys.

• A bent flap bell crank.

After careful review of all available information related to the subject presented above, FAA determined that:

• Operation of the affected Models 172R, 172S, 182T, and T182T airplanes should be prohibited until all the flight control systems are inspected and any discrepancies corrected; and

• AD action should be taken to prevent loss of airplane control due to incorrect or inadequate rigging of critical flight systems.

Consequently, we issued emergency AD 2005-05-53 on March 4, 2005, to require a one-time detailed inspection of the flight control system, correction of installations that do not conform to type design, and repair of any damage.

The serial number designations included in AD 2005-05-53 were incorrect. We then revised AD 2005-05-53 to correct the serial numbers in the AD.

Why is it important to publish this AD? The FAA found that immediate corrective action was required, that notice and opportunity for prior public comment were impracticable and contrary to the public interest, and that good cause existed to make the AD effective immediately by individual letters issued on March 5, 2005, to all known U.S. operators of Cessna Models 172R, 172S, 182T, and T182T airplanes. These conditions still exist, and AD 2005-05-53 R1 is published in the Federal Register as an amendment to section 39.13 of the Federal Aviation Regulations (14 CFR 39.13) to make it effective to all persons.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2005-20587; Directorate Identifier 2005-CE-10-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2005-20587; Directorate Identifier 2005-CE-10-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new AD:

2005-05-53 R1 The Cessna Aircraft Company: Amendment 39-14021; Docket No. FAA-2005-20587; Directorate Identifier 2005-CE-10-AD.

When Does This AD Become Effective?

(a) This AD becomes effective on March 21, 2005, to all affected persons who did not receive emergency AD 2005-05-53 R1, issued March 5, 2005. Emergency AD 2005-05-53 R1 contained the requirements of this amendment and became effective immediately upon receipt.

Are Any Other ADs Affected By This Action?

(b) This AD revises emergency AD 2005-05-53 R1.

What Airplanes Are Affected by This AD?

(c) This AD affects the following airplanes that are certificated in any category:

Model | Serial numbers
172R | 17281234 through 17281236.
172S | 172S9774 through 172S9776, 172S9778 through 172S9781, 172S9783,172S9784, 172S9786, 172S9788 through 172S9791, and 172S9793.
182T | 18281522 through 18281525, and 18281537.
T182T | T18208353 through T18208365, T18208367 through T18208369, T18208371, and T18208372.

What Is the Unsafe Condition Presented in This AD?

(d) This AD is the result of flight control system problems found on airplanes within Cessna's control that could also exist on airplanes produced and delivered within a certain time period. We are issuing this AD to prevent loss of airplane control due to incorrect or inadequate rigging of critical flight systems. Airplanes affected by this AD may have additional flight control issues beyond those listed in “What events caused this AD action?'

What Must I Do To Address This Problem?

(e) The following specifies action you must do per this AD and other pertinent information to address this problem:

Actions | Compliance | Procedures
(1) Do a one-time detailed inspection of the flight control system, correct installations that do not conform to type design, and repair any damage | Prior to further flight after March 21, 2005 (the effective date of this AD), except for those who received emergency AD 2005-05-53 R1, issued March 5, 2005. Emergency AD 2005-05-53 R1 contained the requirements of this amendment and became effective immediately upon receipt | Follow Chapter 5 TIME LIMITS/MAINTENANCE CHECKS of whichever of the following applies: • Model 172 Maintenance Manual using the List of Effective Pages, dated June 7, 2004. • Model 182/T182 Maintenance Manual using the List of Effective Pages, dated March 1, 2004.
(2) Special special flight permits or positioning flights are not permitted for this AD | Not applicable | 14 CFR 39.19 allows special flight permits for all ADs, unless specifically prohibited in a specific AD. This emergency AD prohibits such flight permits. If an aircraft is in a location where necessary services are not available to perform the inspections identified above, contact Cessna Product Support at (316) 517-5800.

May I Request an Alternative Method of Compliance?

(f) You may request a different method of compliance or a different compliance time for this AD by following the procedures in 14 CFR 39.19. You may submit your request through your Flight Standards District Office (FSDO) Principal Inspector, who may add comments and then send your request to the Manager, Wichita Aircraft Certification Office (ACO), FAA. For information on any already approved alternative methods of compliance or for further information about this AD, contact Chris B. Morgan, Aerospace Engineer, FAA, Wichita ACO, 1801 Airport Road, Mid-Continent Airport, Wichita, Kansas 67209; telephone: (316) 946-4154; facsimile: (316) 946-4107; e-mail: chris.b.morgan@faa.gov.

Does This AD Incorporate Any Material by Reference?

(g) You must do the actions required by this AD following the instructions in Chapter 5 TIME LIMITS/ MAINTENANCE CHECKS of the Model 172 Maintenance Manual using the List of Effective Pages, dated June 7, 2004; or the Model 182/T182 Maintenance Manual using the List of Effective Pages, dated March 1, 2004. The Director of the Federal Register approved the incorporation by reference of this documents in accordance with 5 U.S.C. 552(a) and 1 CFR part 51. To get a copy of this service information, contact Cessna Aircraft Company, Product Support P.O. Box 7706, Wichita, Kansas 67277; telephone: (316) 517-5800; facsimile: (316) 942-9006. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-20587.

Issued in Kansas City, Missouri, on March 11, 2005.
Nancy C. Lane,
Acting Manager, Small Airplane Directorate, Aircraft Certification Service.

[FR Doc. 05-5385 Filed 3-18-05; 8:45 am]

BILLING CODE 4910-13-P